SOCIAL SECURITY ADMINISTRATION

[Docket No. SSA 2016-0058]

Privacy Act of 1974; Matching Program

AGENCY: Social Security Administration (SSA).

ACTION: Notice of a new matching program.

SUMMARY: In accordance with the provisions of the Privacy Act, as amended, this notice announces a new computer matching program that we are currently conducting with DOL.

DATES: The deadline to submit comments on the proposed matching program is 30 days from the date of publication of this notice. The matching program will be effective on May 25, 2017, or once a minimum of 30 days after publication of this notice has elapsed, whichever is later. The matching program will expire on November 24, 2018.

ADDRESSES: Interested parties may comment on this notice by either telefaxing to (410) 966-0869, writing to Mary Ann Zimmerman, Acting Executive Director, Office of Privacy and Disclosure, Office of the General Counsel, Social Security Administration, 617 Altmeyer Building, 6401 Security Boulevard, Baltimore, MD 21235-6401, or email at Mary.Ann.Zimmerman@ssa.gov. All comments received will be available for public inspection at this address.

FOR FURTHER INFORMATION CONTACT: Interested parties may submit general questions about the matching program to Mary Ann Zimmerman, Acting Executive Director, Office of Privacy and Disclosure, Office of the General Counsel, by any of the means shown above.

SUPPLEMENTARY INFORMATION: The Computer Matching and Privacy Protection Act of 1988 (Public Law (Pub. L.) 100-503), amended the Privacy Act (5 U.S.C. 552a) by describing the conditions under which computer matching involving the Federal government could be performed and adding certain protections for persons applying for, and receiving, Federal benefits. Section 7201 of the Omnibus Budget Reconciliation Act of 1990 (Pub. L. 101-508) further amended the Privacy Act regarding protections for such persons.

The Privacy Act, as amended, regulates the use of computer matching by Federal agencies when records in a system of records are matched with other Federal, State, or local government records. It requires Federal agencies involved in computer matching programs to:

(1) Negotiate written agreements with the other agency or agencies participating in the matching programs;

(2) Obtain approval of the matching agreement by the Data Integrity Boards of the participating Federal agencies;

(3) Publish notice of the computer matching program in the Federal Register;

(4) Furnish detailed reports about matching programs to Congress and OMB;

(5) Notify applicants and beneficiaries that their records are subject to matching; and

(6) Verify match findings before reducing, suspending, terminating, or denying a person's benefits or payments.

We have taken action to ensure that all of our computer matching programs comply with the requirements of the Privacy Act, as amended.

Mary Ann Zimmerman,
Acting Executive Director, Office of Privacy and Disclosure, Office of the General Counsel.

Participating Agencies: SSA and DOL.

Authority for Conducting the Matching Program: This agreement is executed in accordance with the Privacy Act of 1974, 5 U.S.C. 552a, as amended by the Computer Matching and Privacy Protection Act of 1988, as amended, and the regulations promulgated thereunder.

The legal authority for this agreement is section 1631(f) of the Social Security Act, 42 U.S.C. 1383(f). This legal authority requires any Federal agency to provide SSA with information in its possession that SSA may require for making a determination of eligibility for or the proper amount of Supplemental Security Income (SSI) payments.

Purpose: The purpose of this computer matching agreement is to establish the terms, conditions, and safeguards under which DOL will disclose the DOL administered Part B Black Lung (BL) benefit data to us. We will match DOL's Part B BL data with our records of persons receiving SSI to verify that Part B BL beneficiaries are receiving the correct amount of SSI payments.

Categories of Individuals: The individuals whose information is involved in the matching program are those individuals who are receiving Part B BL benefits and SSI benefits.

Categories of Records: DOL's monthly extract file will contain necessary identifying and payment information for approximately 19,000 individuals, all miners, receiving Part B BL benefit payments. Additionally, once every year, DOL will send an additional file representing all Part B BL benefit records, referred to as the saturation file, regardless of any changes.

DOL's monthly extract file will contain each Part B BL beneficiary's Social Security number (SSN), name, date of birth, date of entitlement, payment status, current benefit amount, and effective date of the current benefit amount. We will determine which of the recipients are receiving SSI payments and match the DOL data against the SSN, type of action code, and income type for those recipients in our Supplemental Security Record (SSR).

Systems of Records: We will match the SSR/SVB SSA/ODSSIS (60-0103) system of records, last fully published on January 11, 2006 (71 FR 1830), and amended on December 10, 2007 (72 FR 69723), which contains all data pertinent to payments made to Title XVI recipients, with an extract from DOL's Office of Workers' Compensation Programs, BL Benefit Payments file (OWCP-9), published on April 29, 2016 (81 FR 25765).

[FR Doc. 2017-23386 Filed 10-26-17; 8:45 am]

BILLING CODE 4191-02-P